ENVIRONMENTAL PROTECTION AGENCY

40 CFR Part 300

[EPA-HQ-SFUND-2000-0003; FRL-9450-4]

National Oil and Hazardous Substances Pollution Contingency Plan; National Priorities List: Deletion of International Smelting and Refining Superfund Site

AGENCY: Environmental Protection Agency.

ACTION: Direct final rule.

SUMMARY: The Environmental Protection Agency (EPA) Region 8 is publishing a direct final Notice of Deletion of the International Smelting and Refining Superfund Site (Site), located in Tooele, Utah, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the state of Utah, through the Utah Department of Environmental Quality (UDEQ) because EPA has determined that all appropriate response actions under CERCLA, other than operation, maintenance, and five-year reviews, have been completed. However, this deletion does not preclude future actions under Superfund.

DATES: This direct final deletion is effective October 11, 2011 unless EPA receives adverse comments by September 9, 2011. If adverse comments are received, EPA will publish a timely withdrawal of the direct final deletion in the Federal Register informing the public that the deletion will not take effect.

ADDRESSES: Submit your comments, identified by Docket ID no. EPA-HQ-SFUND-2000-0003, by one of the following methods:

• http://www.regulations.gov. Follow online instructions for submitting comments.

• E-mail: Erna Waterman, Remedial Project Manager, waterman.erna@epa.gov.

• Fax: 303-312-7151.

• Mail: Erna Waterman, Remedial Project Manager, U.S. Environmental Protection Agency, Region 8, EPR-SR, 1595 Wynkoop Street, Denver, Colorado 80202-1129.

• Hand delivery: U.S. Environmental Protection Agency, Region 8, EPR-SR, 1595 Wynkoop Street, Denver, Colorado. Such deliveries are only accepted during the Docket's normal hours of operation, and special arrangements should be made for deliveries of boxed information.

Instructions: Direct your comments to Docket ID no. EPA-HQ-SFUND-2000-0003. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in the hard copy. Publicly available docket materials are available either electronically in http://www.regulations.gov or in hard copy at:

U.S. EPA, Region 8, Records Center, 1595 Wynkoop Street, Denver, Colorado 80202-1129 (303) 312-6473, Hours: M-F 8 a.m. to 4 p.m.

Tooele City Library, 128 West Vine Street, Tooele, Utah 84074, (435) 882-2182, Hours: T-F 10 a.m. to 8 p.m. and Saturdays 10:30 a.m. to 6 p.m.

FOR FURTHER INFORMATION CONTACT: Erna Waterman, Remedial Project Manager, U.S. Environmental Protection Agency, Region 8, EPR-SR, 1595 Wynkoop Street, Denver, Colorado 80202-1129, (303) 312-6762, e-mail: waterman.erna@epa.gov.

SUPPLEMENTARY INFORMATION:

Table of Contents

I. Introduction

II. NPL Deletion Criteria

III. Deletion Procedures

IV. Basis for Site Deletion

V. Deletion Action

I. Introduction

EPA Region 8 is publishing this direct final Notice of Deletion of the International Smelting and Refining Superfund Site, (Site), from the National Priorities List (NPL). The NPL constitutes Appendix B of 40 CFR part 300, which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e) (3) of the NCP, sites deleted from the NPL remain eligible for Fund-financed remedial actions if future conditions warrant such actions.

Because EPA considers this action to be noncontroversial and routine, this action will be effective October 11, 2011 unless EPA receives adverse comments by September 9, 2011. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the International Smelting and Refining (IS&R) Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the state of Utah prior to developing this direct final Notice of Deletion and the Notice of Intent to Delete co-published today in the “Proposed Rules” section of the Federal Register.

(2) EPA has provided the State 30 working days for review of this notice and the parallel Notice of Intent to Delete prior to their publication today, and the State, through the Utah Department of Environmental Quality, has concurred on the deletion of the Site from the NPL.

(3) Concurrently with the publication of this direct final Notice of Deletion, a notice of the availability of the parallel Notice of Intent to Delete is being published in a major local newspaper, Tooele Transcript Bulletin. The newspaper notice announces the 30-day public comment period concerning the Notice of Intent to Delete the IS&R Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The International Smelting & Refining (IS&R) Superfund Site (Site ID UTD093120921) is located approximately two miles northeast of Tooele, in Tooele County, Utah. The Site occupies the lower portion of Pine Canyon on the west flank of the Oquirrh Mountains. The IS&R Site is comprised of three areas:

1. The former smelter property and surrounding land known as the Pine Canyon Conservation Area, which is owned by Atlantic Richfield Company, Inc. (ARCO), and comprises the majority of the Site;

2. Portions of the former Tooele Valley Railroad (TVRR) grade that extend from the Conservation Area to the city of Tooele, Utah; and

3. Pine Canyon, a residential area adjacent to the Conservation Area which is locally referred to as Lincoln Township.

The 3,000 acre Conservation Area includes the 1,200 acre area once occupied by the smelter and tailing impoundments and all the adjacent property owned by ARCO. ARCO, in conjunction with the Utah Division of Wildlife Resources (UDWR), created a conservation easement in 1994 to protect the reclaimed features. The Conservation Area and the area included within the conservation easement are one and the same. The current boundary for this Conservation Area coincides with the ARCO property boundary.

The TVRR grade portion of the Site is the former railroad right-of-way running from Vine Street in the City of Tooele east to where the right-of-way intersects the Conservation Area boundary. The length of the former rail line is approximately 10,000 feet, and because the land use changes along the former rail line from Tooele to the Conservation Area, the TVRR grade was sectioned into three study areas termed the “town,” “school'” and “extension” sections to reflect different land uses.

Pine Canyon occupies two square miles and is located on the western edge of the former IS&R smelter property. There are approximately 135 properties within the township with a population of about 470 people. The Pine Canyon community includes the properties that were impacted by smelter operations.

The IS&R Site was proposed for addition to the NPL in the Federal Register dated April 23, 1999 (FR Volume 64, No. 78, pages 19968-19974). The Site was made final on the NPL in the Federal Register dated July 27, 2000 (FR Volume 65, No. 145, pages 46096-46104). The existence of tailing impoundments, smelter wastes and contaminated surface soils and groundwater were the principal reasons for listing the IS&R Site. The contaminants of concern are lead and arsenic.

Conservation Area

IS&R began operations in Tooele in 1910 on approximately 1,200 acres. At various times, from 1910 through 1972, IS&R operated copper and lead smelters and a lead-zinc flotation mill. In the early years of IS&R operation, tailings and slag were produced at an estimated annual rate of 650,000 tons per year with declining output in later years. Approximately 326 acres of tailing of an unknown volume are located within the tailing impoundment. The copper smelter was closed in 1946, followed by the closure of the lead-zinc flotation mill in 1968 and the lead smelter in 1972. With the exception of a few incidental buildings, the smelter facility was demolished or scrapped in the mid-1970s.

From 1974 through 1981, the Anaconda Company constructed and operated a mine and mill known as the Carr Fork Operation. The main mill of the operation was one mile east of the IS&R smelter property in Pine Canyon on approximately 12.5 acres. The operation began processing ore in 1979 and ran for less than two years. Tailings from the operation were transported down Pine Canyon to the original IS&R tailing impoundment where a new 100-foot high tailing dam was constructed. Because of the short duration of operations of the Carr Fork Mill, the tailings encompass only about 64 acres behind the constructed dam.

Pine Canyon/Lincoln Township

Lincoln was settled in the late 1800s as a farming and ranching area. When the smelter was constructed in 1908, much of the original farm land was purchased by the International Smelting and Refining Company for operation of the smelter. During the operational period of the smelter, Lincoln continued to be used for farming and also became the residence for some smelter employees. Since the smelter discontinued operations in 1972, the area has experienced a slow, steady growth to its current population of about 470 people.

Lincoln Township was established in 1996 and operates as a separate planning district within Tooele County. Current land uses include residential, recreational visitor and open agricultural.

Tooele Valley Railroad (TVRR) Grade

The TVRR was constructed in 1909 to connect the Union Pacific and Western Pacific lines at Warner, Utah, (west of Tooele) to the IS&R smelter—a distance of approximately seven miles. The primary reason for TVRR's existence was for the support of the IS&R smelter. The railroad was used for transporting smelter ores, concentrates, equipment, and personnel to and from the Site.

Removal Actions

In 2003, maintenance activities were performed by ARCO at the Carr Fork Landfill Area which is near the east side of the Site and is approximately six acres in size. The landfill contains mostly debris from the demolition phase of the reclamation project which occurred in 1986. Also, the Site Entrance Stained Soils Area is near the west side of the Site, near the point of entry for Site visitors. The soils were of a dark brownish tint, and the area was approximately four acres in size.

Diversion berms were installed to divert water flow away from the landfill and steep canyon slopes. The landfill area was grubbed and scarified in the area where the diversion berms were to be placed. Riprap was installed in areas of high erosion potential. The Site Entrance Area was grubbed and scarified. The area was then covered with 12 to 15 inches of compacted fill material and revegetated. The project was completed on June 20, 2003. Additional detail can be found in the Initial and Final Pollution Report dated September 10, 2003.

In 2004 & 2005 a residential soil Removal Action was conducted in Lincoln Township/Pine Canyon. Studies conducted as part of the Remedial Investigation found that some of the properties located in the Pine Canyon community, west of the Conservation Area, had been impacted by smelter-related contaminants. Due to high lead levels in a blood test taken by the Tooele County Health Department (TCHD) on a child in Pine Canyon and the risks identified by the Baseline Human Health Risk Assessment, EPA and the UDEQ determined that immediate implementation of a removal action was necessary to reduce local residents' exposure to lead and arsenic in the environment. In July 2004, EPA issued a Unilateral Administrative Order for a Time-Critical Removal Action, to address all remaining potential risks in the residential area. The cleanup levels used were 580 mg/kg lead and 100 mg/kg arsenic.

Excavation was completed on 19 residential properties and included 9,100 cubic yards of material removed and transported to the tailing repository on the smelter property. After excavation, each property was backfilled and landscaped or restored similar to the pre-construction condition. A Removal Action at the railroad grade of the TVRR was completed in the summer of 2005. The railroad grade extends from Vine Street in Tooele, east to where it divides into two tracks and then intersects the Conservation Area. For Removal Action planning and remedial action, the former grade was divided into three corresponding sections that include the town, school and extension sections.

A Unilateral Administrative Order was issued by EPA to Atlantic Richfield Company, Inc. (ARCO) on November 21, 2003. Under this order, ARCO conducted field sampling to investigate the degree and extent of the metals impact on the grade. The sampling results of relevant zones and areas that exceeded cleanup levels were included in the TVRR grade Removal Action. The administrative order required removal of up to 18 inches of soil in the town and school sections where lead and arsenic concentrations exceeded the cleanup levels and removal or capping of up to 18 inches of soil in the extension sections. The human health cleanup levels for these areas are 580 mg/kg lead and 100 mg/kg arsenic for the town and school section soils and 2,231 mg/kg lead and 900 mg/kg arsenic for the extension section soils.

In 2006, a Removal Action was performed in the Conservation Area. During the Remedial Investigation (RI) for the Site, 18 locations of varying sizes were identified in the Conservation Area that exceeded the cleanup levels of 8,000 mg/kg lead and 900 mg/kg arsenic.

The Conservation Area Removal Action began in the fall of 2006 and was completed during the spring of 2007. Locations that exceeded cleanup levels were addressed by placing a 12-inch thick cap of clean soil over the contaminated area and then reseeding the surface. Two of the 18 locations identified during the Remedial Investigation were within the tailings pile and could not be safely addressed as a result of physical hazards. Therefore, fencing and other physical barriers were constructed to limit access to these two locations. The Removal Action also addressed areas where vegetation was limited or absent and contaminant concentrations were below cleanup levels. These areas were addressed by removing 24 inches of soil, back-filling the excavation with clean soil and reseeding. A thorough discussion of the 2006 Conservation Area Removal Action is included in the 2006 Conservation Area Removal Action Final Construction Report dated June 1, 2007. Figure 2-4 of that report shows the areas addressed by the 2006 Removal Actions.

Ongoing or Potential Development

The Conservation Area (ARCO property) is designated as a wildlife conservation area in accordance with an easement agreement between ARCO and the Utah Division of Wildlife Resources (UDWR). The agreement precludes the property from being used for purposes other than the maintenance and enhancement of wildlife indigenous to the Oquirrh Range foothills. Activities that would impact remedial features are prohibited, such as drilling and exploration, filling, excavating, mining, dredging, and removal of top soil and other materials, and commercial, industrial, and agricultural use as set forth in the conservation easement. Before and since the easement was originally issued in 1994, efforts have been made to develop and protect this area for wildlife purposes. The management plan prepared by UDWR and endorsed by ARCO defines uses and periods of use allowable on the property. In general, current use of the area includes light recreational uses such as walking, wildlife observation and hunting. Motorized vehicles are not permitted on Site except for maintenance purposes, which is enforced by the UDWR. The property is fenced to prevent unauthorized use of the area. Use of the area is not expected to change in the future.

Current land uses within Pine Canyon include residential, agricultural and recreational designations. Though the actual township boundaries are large in area, the bulk of the population is located along Ericson Road and near the intersection of Blue Peak Drive and Pine Canyon Road. Behind the houses are large open fields used for farming and pasture. The Boys Ranch parcel, a large tract of open land to the northwest of the Pine Canyon/Blue Peak Road intersection, is planned for development. Institutional controls have been established to ensure that the completed remedy and future development of open land remains protected.

Remedial Investigation (RI)

ARCO conducted the Remedial Investigation (RI) between 2001 and 2006 with EPA oversight. The chief objective of the RI was to determine the potential risk to human health and the environment of the IS&R Site and adjacent land by evaluating the Site in its current condition, taking into account reclamation actions completed in 1986, verifying previous investigation sample results of the Site prior to reclamation, and assessing conditions in areas not previously addressed by reclamation efforts including near-by residential areas.

The Conservation Area was divided into work areas during the RI to facilitate the inspection. During the RI, soils, slag, sediment, surface water and groundwater were sampled, and Site inspections were conducted to identify areas where future remedial action may be required. In addition to samples collected on the former smelter site and surrounding fields, residential yard samples and household dust samples were collected from selected residential dwellings in the community of Pine Canyon, located west of the smelter site. The investigation monitored groundwater wells in the area of the smelter, Pine Canyon and nearby areas.

Soil and sediment samples were analyzed for 23 metals and pH. The metals included aluminum, antimony, arsenic, barium, beryllium, cadmium, calcium, chromium, cobalt, copper, iron, lead, magnesium, manganese, mercury, nickel, potassium, selenium, silver, sodium, thallium, vanadium and zinc. Water samples were analyzed for the same 23 metals, 4 anions and 4 physical properties, including all drinking water standards. Analytical results of the samples collected show that when lead and arsenic are high, other metals may then be present in concentrations high enough to pose a concern. Therefore, throughout the investigation, lead and arsenic were used as indicator metals to gauge the impact on areas from smelter operations.

Groundwater samples were collected on and near the Site from 2001 through February 2006 to determine what impact, if any, to area aquifers are a result of past operations at the IS&R Site, and in an attempt to locate a source of elevated arsenic in the groundwater.

Findings of the Feasibility Study (FS)

The Feasibility Study concluded that past Removal Actions had addressed areas with soil containing concentrations of contaminants of concern above cleanup levels. Institutional controls will be required to ensure that the protectiveness of the remedy is maintained. Monitoring of groundwater will be required to determine if arsenic concentrations change, over time, relative to baseline concentrations.

Selected Remedy

A Record of Decision (ROD) for the Site was issued by EPA on September 27, 2007. The remedy established in the ROD takes into account all removal work and capped areas in the Carr Fork Landfill Area, TVRR, and the Conservation Area; selects the implementation of institutional controls and monitoring as needed to protect the integrity of the previously completed removal and reclamation actions; and concludes that no further remedial construction is necessary.

Remedial Action Objectives

Remedial Action Objectives (RAO) for the Conservation Area, the TVRR grade area, and Pine Canyon were achieved as a result of the 2006 Conservation Area Removal Action, the 2004 and 2005 Pine Canyon/Lincoln residential Removal Action and the TVRR Removal Action completed in the summer of 2005.

The RAOs identified for the Site consisted of the following:

1. For human and ecological receptors, prevent direct contact/ingestion with soil having lead and/or arsenic concentrations in excess of cleanup levels identified for the Site, and

2. For human and ecological receptors, protect water quality in stream by minimizing migration of soil with lead and/or arsenic concentrations above cleanup levels into streams.

RAOs were not necessary for surface and ground water and sediments since these media did not pose a risk to human health and the environment. RAOs for groundwater were not necessary.

Response Actions

The findings of the Record of Decision indicate that the Removal Actions performed at the Site have addressed all contamination that exceeds clean up goals set for the Site.

Cleanup Goals

• Residential area soils do not exceed 580 mg/kg lead and 100 mg/kg arsenic

• Conservation area soils do not exceed 8,000 mg/kg lead and 900 mg/kg arsenic.

• TVRR Town and School Section soils do not exceed 580 mg/kg lead and 100 mg/kg arsenic.

• TVRR Extension Section soils do not exceed 2,300 mg/kg lead and 900 mg/kg arsenic.

Operation and Maintenance

Operation and maintenance of the Site is conducted by UDWR and ARCO in accordance with the Long Term Operation and Maintenance Plan (O&M Plan 2010). ARCO is responsible for O&M at the Site. Fence posts and wire will be repaired and replaced as necessary to maintain security of the Site. This is especially important to prevent motorized vehicles from accessing the Site and damaging the cover.

• Adequate signage has been placed (and will be replaced as necessary) around the perimeter Site fence to instruct the public regarding prohibited Site activities.

• An annual inspection is conducted at the Site in May of each year (after spring runoff season). The inspection includes a photographic record and looks at:

○ Vegetation loss or obvious stressed areas (seed and fertilizer is placed as necessary)

○ Vandalism of fences or signs, or other evidence of unauthorized trespassing

○ Condition of culverts

○ Erosion or other damage to the protective soil cover

○ Erosion of channels or other storm water drainage control structure

• Items found deficient during the inspections will be corrected to protect the remedy at the Site as outlined in the O&M Plan

Monitoring will be required for all three areas of the Site. Monitoring by ARCO will consist of inspecting the integrity of the caps, covers and storm water controls on an annual basis. The UDWR will conduct day to day surveillance as dictated in the Long Term Operations and Maintenance Plan and Conservation Easement. Groundwater monitoring will be conducted at the Conservation Area to ensure that the former smelter area does not become a source of groundwater contamination in the future.

Institutional Controls

ARCO will assist the TCHD in administering the institutional controls, which regulate the development of land within an overlay zone in Pine Canyon where soils could potentially have elevated concentrations of lead and/or arsenic. This includes providing information and review if necessary, of sampling and analysis plans prepared by land developers. Institutional controls will be monitored to ensure that they remain in place and serve their intended purposes.

Five-Year Review

In accordance with CERCLA § 121 (c), the Site is subject to statutory five-year reviews since hazardous substances, pollutants, or contaminants remain on Site above levels that allow for unlimited use and unrestricted exposure. The first statutory five-year review will be conducted in September 2012.

Community Involvement

Shortly after the Site was listed on the NPL, an information repository containing the Administrative Record and other information about the Site was established in 2000 at the Tooele Public Library, 128 West Vine Street, Tooele, Utah, and at the Superfund Records Center at EPA Region 8 in Denver. The UDEQ has numerous files and information related to this Site, which are available to the public upon request; however, the UDEQ is not considered an information repository for the Site.

EPA and UDEQ completed a community involvement plan for the Site in November 2001. This plan outlined methods to enhance understanding and communication so that those impacted can become more informed about the Site activities and be part of the decision making process. The plan was based primarily on discussions with residents, local officials and business leaders, and it enlisted the support of local groups, individuals and elected officials to collect and distribute information.

An informal community advisory group was formed shortly after the Site was placed on the NPL. Meetings have been a joint effort between the EPA, UDEQ, TCHD and citizens, and include a citizen co-chair. Notices about the meetings and the proposed agenda are mailed and e-mailed to citizens in advance of all meetings. Information is also placed in the Tooele Transcript's event section known as the Bulletin Board.

EPA and UDEQ have maintained regular contact with members of the community and implemented a variety of community relations activities as new information about the Site has become available. This has included holding public meetings; distributing fact sheets, brochures and flyers; meeting with community members and local officials; developing and maintaining an EPA Web fact sheet; and sharing information with the local media. The EPA and UDEQ supported the TCHD in conducting a survey with residents about the Site in 2001. EPA also worked with the County to develop a brochure that was distributed to residents in 2002.

EPA developed and distributed a fact sheet in June 2004 to alert residents of soil sampling activities. The fact sheet included questions about health effects of lead and arsenic in soil and included tips to reduce exposure. It also informed the community of the County's services for free blood testing.

The remedial investigation, feasibility study reports and the proposed plan, were released to the public for comment on June 16, 2007. These documents were made available to the public in both the Administrative Record and the informational repository described above. In addition, approximately 100 copies of the proposed plan were mailed to citizens in the neighborhoods adjacent to the Site. The notice of availability for the proposed plan was published in the Tooele Transcript on June 14, 2007. A public comment period on the proposed plan was held from June 16, 2007 to July 16, 2007.

A public meeting was held on June 26, 2007, at the TCHD regarding the proposed plan for the Site. At this meeting, representatives from EPA and UDEQ answered questions about the current condition of the Site, the remedial alternatives under consideration and the preferred alternative. Several community members, including the co-chair of the community advisory group, expressed support for the preferred alternative and there were no objections to the preferred alternative. EPA did not receive any written comments during the comment period.

Determination That the Site Meets the Criteria for Deletion in the NCP

Four Removal Actions have been completed at the Site. The Record of Decision concluded that the removals satisfied all remedial requirements at the Site.

The Region has followed the procedures required by 40 CFR 300.425(e) as follows:

1. Responsible parties or other persons have implemented all appropriate response actions required.

2. The state of Utah, through the Utah Department of Environmental Quality has concurred in the deletion of the Site on August 25, 2010.

3. A Notice of Intent to Delete has been published in the local newspaper.

4. Information supporting the proposed deletion has been made available in the information repository for the Site.

V. Deletion Action

The EPA, with concurrence of the state of Utah through the Utah Department of Environmental Quality (UDEQ), has determined that all appropriate response actions under CERCLA, other than operation, maintenance, monitoring and five-year reviews have been completed. Therefore, EPA is deleting the Site from the NPL.

Because EPA considers this action to be noncontroversial and routine, EPA is taking it without prior publication. This action will be effective 45 days from the date of this publication in the Federal Register unless EPA receives adverse comments within 30 days from this publication in the Federal Register. If adverse comments are received within the 30-day public comment period, EPA will publish a timely withdrawal of this direct final Notice of Deletion before the effective date of the deletion, and it will not take effect. EPA will prepare a response to comments and continue with the deletion process on the basis of the Notice of Intent to Delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: August 3, 2011.
James B. Martin,
Regional Administrator, Region 8.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to part 300 is amended by removing the entry for “International Smelting and Refining”, “Tooele”, “UT”.

[FR Doc. 2011-20291 Filed 8-9-11; 8:45 am]

BILLING CODE 6560-50-P